INTERNATIONAL TRADE COMMISSION

[Investigation No. 731-TA-894 (Final)]

Certain Ammonium Nitrate From Ukraine

AGENCY: United States International Trade Commission.

ACTION: Revised schedule for the subject investigation.

EFFECTIVE DATE: May 22, 2001.

FOR FURTHER INFORMATION CONTACT: Gail Burns (202-205-2501), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS-ON-LINE) at http://dockets.usitc.gov/eol/public.

SUPPLEMENTARY INFORMATION: On March 7, 2001, the Commission established a schedule for the conduct of the final phase of the subject investigation (66 FR 14933, March 14, 2001). The Department of Commerce notified the Commission on May 17, 2001, that the date for its final determination in the investigation was extended from June 18, 2001 to July 18, 2001. The Commission, therefore, is revising its schedule to conform with Commerce's new schedule.

The Commission's new schedule for the investigation is as follows: requests to appear at the hearing must be filed with the Secretary to the Commission not later than July 16, 2001; the prehearing conference will be held at the U.S. International Trade Commission Building at 9:30 a.m. on July 19, 2001; the prehearing staff report will be placed in the nonpublic record on July 11, 2001; the deadline for filing prehearing briefs is July 18, 2001; the hearing will be held at the U.S. International Trade Commission Building at 9:30 a.m. on July 24, 2001; the deadline for filing posthearing briefs is July 31, 2001; the Commission will make its final release of information on August 16, 2001; and final party comments are due on August 20, 2001.

For further information concerning this investigation see the Commission's notice cited above and the Commission's Rules of Practice and Procedure, part 201, subparts A through E (19 CFR part 201), and part 207, subparts A and C (19 CFR part 207).

Authority: This investigation is being conducted under authority of title VII of the Tariff Act of 1930; this notice is published pursuant to section 207.21 of the Commission's rules.

By order of the Commission.
Issued: May 23, 2001.
Donna R. Koehnke,
Secretary.

[FR Doc. 01-13467 Filed 5-29-01; 8:45 am]

BILLING CODE 7020-02-P